DEPARTMENT OF TRANSPORTATION

Federal Motor Carrier Safety Administration

[Docket No. FMCSA-2021-0096]

Agency Information Collection Activities; Renewal of an Approved Information Collection: Electronic Logging Device (ELD) Vendor Registration

AGENCY: Federal Motor Carrier Safety Administration (FMCSA), DOT.

ACTION: Notice and request for comments.

SUMMARY: In accordance with the Paperwork Reduction Act of 1995, the Federal Motor Carrier Safety Administration (FMCSA) announces its plan to submit the Information Collection Request (ICR) described below to the Office of Management and Budget (OMB) for its review and approval and invites public comment. FMCSA requests approval to renew an ICR titled, “Electronic Logging Device (ELD) Vendor Registration.” This ICR is necessary for ELD vendors to register their ELDs with the Agency.

DATES: Comments on this notice must be received on or before April 4, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Jose R. Cestero, Vehicle and Roadside Operations Division, Department of Transportation, Federal Motor Carrier Safety Administration, 6th Floor, West Building, 1200 New Jersey Avenue SE, Washington, DC 20590-0001. Telephone: 202-366-5541; Email Address: jose.cestero@dot.gov. Office hours are from 9 a.m. to 5 p.m., Monday through Friday, except Federal Holidays.

SUPPLEMENTARY INFORMATION: Title: Electronic Logging Device (ELD) Vendor Registration.

OMB Control Number: 2126-0062.

Type of Request: Renewal of a currently approved information collection.

Respondents: ELD vendors.

Estimated Number of Respondents: 75.

Estimated Time per Response: 15 minutes.

Expiration Date: March 31, 2022.

Frequency of Response: On occasion.

Estimated Total Annual Burden: 150 hours [75 respondents × 2 devices per respondent × 4 updates per device × 15 minutes per response].

Background

49 CFR part 395, subpart B establishes minimum performance and design standards for hours-of-service (HOS) ELDs; requirements for the mandatory use of these devices by drivers currently required to prepare HOS records of duty status (RODS); requirements concerning HOS supporting documents; and measures to address concerns about harassment resulting from the mandatory use of ELDs.

To ensure consistency among ELD vendors and devices, detailed functional specifications were published as part of the December 2015 final rule (Dec. 16, 2015, 80 FR 78292). Each ELD vendor developing an ELD technology must register online at a secure FMCSA website where the ELD provider can securely certify that its ELD is compliant with the functional specifications. Each ELD vendor must certify that each ELD model and version has been sufficiently tested to meet the functional requirements in the rule under the conditions in which the ELD would be used.

ELD vendors must self-certify and register their devices with FMCSA online via Form MCSA-5893, “Electronic Logging Device (ELD) Vendor Registration and Certification.” FMCSA expects 100% of respondents to submit their information electronically. Once completed, FMCSA issues a unique identification number that the ELD vendor will embed in their device(s). FMCSA maintains a list on its website of the current ELD vendors and devices that have been certified (by the vendors) to meet the functional specifications. The information is necessary for fleets and drivers to easily find a compliant ELD for their use in complying with the FMCSA regulation requiring the use of ELDs.

On October 14, 2021, FMCSA published a notice in the Federal Register with a 60-day public comment period to announce this request to renew the information collection (86 FR 57249). The Agency received no comments in response to the notice.

Public Comments Invited: You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87.
Thomas P. Keane,
Associate Administrator for Research, Technology and Registration.

[FR Doc. 2022-04460 Filed 3-2-22; 8:45 am]

BILLING CODE 4910-EX-P